DEPARTMENT OF AGRICULTURE

Forest Service

Information Collection; Request for Comments; Recreation Marketing Surveys for Coconino and Pacific Northwest

AGENCY: Forest Service, USDA.

ACTION: Notice.

SUMMARY: In accordance with the Paperwork Reduction Act of 1995, the Forest Service announces its intention to request an extension of a currently approved information collection. This collected information enables the Forest Service to keep apprised of the recreational experiences most desired by visitors to National Forest System lands. The information also will help the agency develop a user fee system that will be most compatible with the demands visitors place on recreational sites and facilities. These fees supplement agency funding to help maintain the recreational sites experiencing the most visitor traffic. Adult visitors will be selected at random from two study areas, the Sedona District of the Coconino National Forest in Arizona and the Pacific Northwest Region of the Forest Service in Oregon and Washington.

DATES: Comments must be received in writing on or before April 17, 2000.

ADDRESSES: All comments should be addressed to: Daniel W. McCollum, Rocky Mountain Research Station, 2150 Centre Ave., Building A, Suite 350, Forest Service, USDA, Fort Collins, CO 80526-1891.

Comments also may be submitted via facsimile to (970) 295-5959 or by e-mail to dmccollu/rmrs@fs.fed.us.

The public may inspect comments received at the offices of the Rocky Mountain Research Station, Research Work Unit RM-4851, 2150 Centre Ave., Building A, Suite 350, Fort Collins, Colorado. Visitors are urged to call ahead to facilitate entrance into the offices.

FOR FURTHER INFORMATION CONTACT: Daniel W. McCollum, Rocky Mountain Research Station, at (970) 295-5962.

SUPPLEMENTARY INFORMATION:

Background

The types of and demand for outdoor recreational opportunities on public lands has increased in recent years. Funding often has been insufficient to meet the increased demand for recreational opportunities and, at the same time, protect the natural resources from overuse and degradation. In 1996, the U.S. Congress authorized the Recreation Fee Demonstration Program to allow “new user fees” to be collected by four Federal agencies at 100 locations. The purpose of the new user fees is to see if funding provided by the fees would address the problem of insufficient funding for recreational site maintenance and protection of natural resources. User fees are payments visitors must provide in order to utilize certain recreational amenities and sites on National Forest System lands.

The Forest Service is now seeking reactions from recreational visitors whose visit was or is contingent upon paying a fee to utilize a recreational amenity or site. This survey focuses on two sites: (1) The Sedona District of the Coconino National Forest in Arizona and (2) the Pacific Northwest Region of the Forest Service in Oregon and Washington. Responses of individuals who will visit these two sites for recreational experiences in the spring and summer of 2000 will be compared with responses obtained from recreational visitors to these sites in the fall and winter of 1999. Information will be collected in 2001, 2002, and 2003 to see how well the “new user fees” are meeting the objective of providing supplemental funding for maintenance of recreational amenities and sites, as well as natural resource protection.

This information collection also seeks to estimate the effects that user fees will have on the future numbers of visitors to National Forest System lands and how fees will influence the recreational experiences individuals will choose.

Description of Information Collection

Title: Recreation Marketing Surveys for Coconino and Pacific Northwest.

OMB Number: 0596-0149.

Expiration Date of Approval: December 31, 1999.

Type of Request: Extension of a previously approved information collection.

Abstract: Forest Service employees and cooperating University of Montana and Arizona State University researchers, who are specialists in economics, marketing, outdoor recreation, and statistics, will collect the information and analyze it to learn what current recreational visitors and potential recreational visitors desire in terms of recreational experiences. The data also will enable the agency to design a method for payment of fees, which will supplement agency funding and help the agency meet the demands for recreational experiences in an environmentally and socially responsible manner.

This information will be collected for two case studies: (1) the Sedona District of the Coconino National Forest in Arizona, and (2) the Pacific Northwest Region of the Forest Service in Oregon and Washington. The purpose of the Coconino study will be to evaluate the success of a new recreational fee demonstration project. The purpose of the Pacific Northwest Region study is to consider the public's perception of the feasibility of consolidating the 18 to 20 recreation fee demonstration sites into a Region-wide pass (the entire Pacific Northwest Region that includes all of Oregon and all of Washington) or into two State-wide passes (one for Oregon and one for Washington) that would be good at all the sites within the Region or within a single State. The other aspect of the study is to gain the public's perception of the feasibility of modifying the fee structure so the fees charged are the same for identical or similar amenities or experiences at different recreational sites. Both cases will be part of the Recreation Fee Demonstration Program authorized by the 1966 Recreation Fee Demonstration Program to evaluate the role of fees in providing recreational opportunities on the public lands.

For the Coconino National Forest case study, Forest Service personnel will work with Arizona State University personnel, and for the Pacific Northwest Region case study, Forest Service personnel will work with University of Montana personnel to conduct on-site, face-to-face interviews. Respondents will answer questions that include where they live, their planned length of visit, their planned primary recreational activity, whether the area provided them an opportunity for a satisfactory recreational experience, how satisfied they are with the area, their age, race, ethnic background, and their annual income.

Respondents also will be asked to complete an optional mail-back survey containing additional questions, such as whether they would like to have restroom facilities at the site, if restrooms were at the site, whether they were clean, if they would like to have directional signs, geographical maps, the extent to which their visit met their expectations, if they accept that fees will be charged for various recreational activities, their preferred method of paying their fees, if they consider the fee amounts charged to be fair.

Data gathered in this information collection is not available from other sources.

Estimate of annual burden: 30 minutes.

Type of respondents: Individuals visiting the Sedona District of the Coconino National Forest in Arizona and Pacific Northwest Region of the Forest Service in Oregon and Washington.

Estimated annual number of respondents: 2500.

Estimated annual number of responses per respondent: 1.

Estimated total annual burden on respondents: 1,250 hours.

Comment Is Invited

The agency invites comments on the following: (a) Whether the information proposed for the collection is appropriate for the stated purposes and the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments, including name and address when provided, will become a matter of public record. Comments received in response to this notice will be summarized and included in the request for Office of Management and Budget approval.

Dated: February 10, 2000.
Robert Lewis, Jr.,
Deputy Chief for Research & Development.

[FR Doc. 00-3837 Filed 2-16-00; 8:45 am]

BILLING CODE 3410-11-U